DEPARTMENT OF THE TREASURY

Bureau of Engraving and Printing

Senior Executive Service; Combined Performance Review Board (PRB)

AGENCY: Bureau of Engraving and Printing (BEP), Treasury Department.

ACTION: Notice of members of Combined Performance Review Board (PRB).

SUMMARY: This notice announces the appointment of the members of the Combined Performance Review Board (PRB) for the Bureau of Fiscal Service, the Bureau of Engraving and Printing (BEP), the United States Mint, the Alcohol and Tobacco Tax and Trade Bureau (TTB), and the Financial Crimes Enforcement Network (FinCEN). The Combined PRB reviews the performance appraisals of career senior executives who are below the level of bureau head and principal deputy in the bureaus, except for executives below the Assistant Commissioner/Executive Director level in the Bureau of Fiscal Service. The Combined PRB makes recommendations regarding proposed performance appraisals, ratings, bonuses, pay adjustments, and other appropriate personnel actions.

DATES: The membership of the Combined PRB as described in the Notice is effective on October 31, 2016.

FOR FURTHER INFORMATION CONTACT: Tanya Everett, Human Resources Officer/Office Chief, 14th and C Street SW., Washington, DC 20228, Office: (202) 874-3573.

SUPPLEMENTARY INFORMATION: Pursuant to 5 U.S.C. 4314(c)(4), this Notice announces the appointment of the following primary and alternate members to the Combined PRB:

Primary Members

David Motl, Acting Deputy Director for Management, United States Mint

Kimberly A. McCoy, Deputy Commissioner, Fiscal Accounting and Shared Services

Amy Taylor, Associate Director, Financial Crimes Enforcement Network

Debra Richardson, Associate Director, Chief Financial Officer, Bureau of Engraving and Printing

Mary G. Ryan, Deputy Administrator, Alcohol and Tobacco Tax and Trade

Alternate Members

Elisa Basnight, Chief of Staff, United States Mint

Stephen L. Manning, Deputy Commissioner, Fiscal Accounting and Shared Services

Jamal El-Hindi, Deputy Director, Financial Crimes Enforcement Network

Thomas Crone, Assistant Administrator, Alcohol and Tobacco Tax and Trade

Bureau of Engraving and Printing elected to not have an alternate.

Leonard R. Olijar,
Director, the Bureau of Engraving and Printing.

[FR Doc. 2016-25084 Filed 10-17-16; 8:45 am]

BILLING CODE 4840-01-P